DEPARTMENT OF JUSTICE

Drug Enforcement Administration

Manufacturer of Controlled Substances; Notice of Registration

By Notice dated November 14, 2003, and published in the Federal Register on December 2, 2003, (68 FR 67479), Sigma Aldrich Research Biochemicals, Inc., 1-3 Strathmore Road, Natick, Massachusetts 01760, made application by renewal to the Drug Enforcement Administration for registration as a bulk manufacturer of the basic classes of controlled substances listed below:

Drug | Schedule
Cathinone (1235) | I
Methcathinone (1237) | I
Aminorex (1585) | I
Alpha-ethyltryptamine (7249) | I
Lysergic acid diethylamide (7315) | I
Tetrahydrocannabinols (7370) | I
4-Bromo-2,5-dimethoxy-amphetamine 7391 | I
4-Bromo-2,5-dimethoxyphenethylamine (7392) | I
2,5-Dimethoxyamphetamine (7396) | I
3,4-Methylenedioxyamphetamine (7400) | I
N-Hydroxy-3,4-methylenedioxyamphetamine (7402) | I
3,4-Methylenedioxy-N-ethylamphetamine (7404) | I
3,4-Methylenedioxymethamphetamine (MDMA) (7405) | I
1-[1-(2-thienyl)cyclohexyl]piperidine (TCP) (7470) | I
Heroin (9200) | I
Normorphine (9313) | I
Amphetamine (1100) | II
Methamphetamine (1105) | II
1-Phenylcyclohexylamine (7460) | II
Phencyclidine (7471) | II
Cocaine (9041) | II
Codeine (9050) | II
Diprenorphine (9058) | II
Ecogonine (9180) | II
Levomethorphan (9210) | II
Levorphanol (9220) | II
Meperidine (9230) | II
Metazocine (9240) | II
Methadone (9250) | II
Morphine (9300) | II
Thebaine (9333) | II
Levo-alphacetylmethadol (9648) | II
Carfentanil (9743) | II
Fentanyl (9801) | II

The firm plans to manufacture the listed controlled substances for laboratory reference standards and neurochemicals.

No comments or objections have been received. DEA has considered the factors in Title 21, United States Code, Section 823(a) and determined that the registration of Sigma Aldrich Research Biochemicals, Inc. to manufacture the listed controlled substances is consistent with the public interest at this time. DEA has investigated Sigma Aldrich Research Biochemicals, Inc. to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed is granted.

Dated: March 5, 2004.
William J. Walker,
Deputy Assistant Administrator, Office of Diversion Control, Drug Enforcement Administration.

[FR Doc. 04-5771 Filed 3-12-04; 8:45 am]

BILLING CODE 4410-09-M